NUCLEAR REGULATORY COMMISSION

[NRC-2020-0027]

Information Collection: International Atomic Energy Agency Design Information Questionnaire

AGENCY: Nuclear Regulatory Commission.

ACTION: Notice of submission to the Office of Management and Budget; request for comment.

SUMMARY: The U.S. Nuclear Regulatory Commission (NRC) invites public comment on our intention to request the Office of Management and Budget's (OMB) approval for renewal of an existing information collection in order for the United States to fulfill its responsibilities as a participant in the U.S./International Atomic Energy Agency (IAEA) Safeguards Agreement. The information collection is entitled, “IAEA Design Information Questionnaire.”

DATES: Submit comments by September 11, 2020. Comments received after this date will be considered if it is practical to do so, but the Commission is able to ensure consideration only for comments received on or before this date.

ADDRESSES: Written comments and recommendations for the proposed information collection should be sent within 30 days of publication of this notice to https://www.reginfo.gov/public/do/PRAMain. Find this particular information collection by selecting “Currently under Review—Open for Public Comments” or by using the search function.

FOR FURTHER INFORMATION CONTACT: David Cullison, NRC Clearance Officer, U.S. Nuclear Regulatory Commission, Washington, DC 20555-0001; telephone: 301-415-2084; email: INFOCOLLECTS.Resource@nrc.gov.

SUPPLEMENTARY INFORMATION:

I. Obtaining Information and Submitting Comments

A. Obtaining Information

Please refer to Docket ID NRC-2020-0027 when contacting the NRC about the availability of information for this action. You may obtain publicly-available information related to this action by any of the following methods:

• Federal Rulemaking website: Go to https://www.regulations.gov and search for Docket ID NRC-2020-0027.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The final OMB Supporting Statement for the IAEA Design Information Questionnaire Forms is available in ADAMS under Accession No. ML20160A392. For the convenience of the reader, instructions about obtaining supplemental documents related to each information collection are provided in the “Availability of Documents” section.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for renewal of an existing collection of information to OMB for review entitled, “Design Information Questionnaire—IAEA N-71 and Associated Forms N-72, N-73, N-74, N-75, N-76, N-77, N-91, N-92, N-93, N-94. ”. The NRC hereby informs potential respondents that an agency may not conduct or sponsor, and that a person is not required to respond to, a collection of information unless it displays a currently valid OMB control number.

The NRC published a Federal Register notice with a 60-day comment period on this information collection on March 20, 2020; 85 FR 16149.

1. The title of the information collection: IAEA Design Information Questionnaire Forms.

2. OMB approval number: 3150-0056.

3. Type of submission: Extension.

4. The form number if applicable: N/A.

5. How often the collection is required or requested: 1 time per year.

6. Who will be required or asked to respond: Licensees of facilities on the U.S. eligible list who have been notified in writing by the NRC to submit the form.

7. The estimated number of annual responses: 2.

8. The estimated number of annual respondents: 2.

9. An estimate of the total number of hours needed annually to comply with the information collection requirement or request: 360 reporting hours.

10. Abstract: In order for the United States to fulfill its responsibilities as a participant in the U.S./International Atomic Energy Agency (IAEA) Safeguards Agreement, the NRC must collect information from licensees about their installations and provide it to the IAEA. Licensees of facilities that appear on the U.S. eligible list and have been notified in writing by the NRC are required to complete and submit a Design Information Questionnaire (DIQ), IAEA DIQ Form to provide information concerning their installation for use by the IAEA.

III. Availability of Documents

The supplemental documents related to each information collections are identified in the following table and are available to interested persons in ADAMS.

Old form title | New document title | ADAMS Accession No.
N-72 | Research and Power Reactors DIQ Form | ML20217L473.
N-73 | Conversion and/or Fuel Fabrication Plants DIQ Form | ML20217L470.
N-74 | Reprocessing Plants DIQ Form | ML20217L472.
N-75 | Isotopic Enrichment Plants DIQ Form | ML20217L471.
N-76 | Geological Repositories DIQ Form | ML20217L467.
N-77 | Spent Fuel Encapsulation Plants DIQ Form | ML20217L469.
N-92 | Research and Development Facilities DIQ Form | ML20217L576.
N-93 | Critical (Sub-Critical) Facilities DIQ Form | ML20217L466.
N-94 | Separate Storage Installations DIQ Form | ML20217L468.

Dated: August 7, 2020.
For the Nuclear Regulatory Commission.
David C. Cullison,
NRC Clearance Officer, Office of the Chief Information Officer.

[FR Doc. 2020-17622 Filed 8-11-20; 8:45 am]

BILLING CODE 7590-01-P